FEDERAL MARITIME COMMISSION

Sunshine Act Meeting

Agency Holding The Meeting: Federal Maritime Commission.

Time and Date: 10 a.m.—March 8, 2006.

Place: 800 North Capitol Street, NW., First Floor Hearing Room, Washington, DC.

Status: Closed.

Matters to be Considered:

1. Revocation of Licenses for Failure to Comply with the Bonding Requirements of Section 19 of the Shipping Act of 1984—Order to Show Cause.

2. Docket No. 02-04—Anchor Shipping Co. v. Alianca Navegacao E Logistica Ltda.

FOR MORE INFORMATION CONTACT: Bryant L. VanBrakle, Secretary, (202) 523-5725.

Karen V. Gregory,
Assistant Secretary.

[FR Doc. 06-2093 Filed 3-1-06; 1:20 pm]

BILLING CODE 6730-01-M